DEPARTMENT OF ENERGY

Federal Energy Regulatory Commission

Notice of Application Ready for Environmental Analysis and Soliciting Comments, Recommendations, Terms and Conditions, and Prescriptions

August 4, 2004.

Take notice that the following hydroelectric application has been filed with the Commission and is available for public inspection.

a. Type of Application: New minor license.

b. Project No.: 620-009.

c. Date Filed: October 3, 2003.

d. Applicant: NorQuest Seafoods Inc.

e. Name of Project: Chignik Hydroelectric Project.

f. Location: The Chignik Project is located on Indian Creek in Lake and Peninsula Borough, Alaska. The project affects approximately 58 acres of Federal lands managed by the U.S. Bureau of Land Management.

g. Filed Pursuant to: Federal Power Act, 16 U.S.C. 791(a)-825(r).

h. Applicant Contact: Daniel Hertrich, Polarconsult Alaska Inc., 1503 W 33rd Ave. 310, Anchorage, Alaska 99503, (907) 258-2420, e-mail: dan@polarconsult.net.

i. FERC Contact: Kenneth Hogan at (202) 502-8434 or kenneth.hogan@ferc.gov.

j. Deadline for filing comments, recommendations, terms and conditions, and prescriptions is 60 days from the issuance of this notice; reply comments are due 105 days from the issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted, and is ready for environmental analysis at this time.

l. The existing Chignik Hydroelectric Project operates continuously at 2.7 cubic-feet-per-second (cfs), and serves as the domestic water supply for the City of Chignik. The project consists of the following features: (1) A timber crib dam, spill way and overflow channel; (2) a 20.4 surface acre reservoir; (3) a 7,700 foot-long wood stave and steel pipeline; (4) a turbine and 60 kW generator; and (5) other appurtenant facilities.

NorQuest estimates that the average annual generation is 219,000 kilowatt hours (kWh). NorQuest uses the Chignik Hydroelectric Project facilities to augment the consumption of diesel fuel in their diesel generators used to supply electricity to NorQuest's cannery operations.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

n. The tentative schedule for processing the application follows:

Milestone | Date
Response to REA due | October 4, 2004.
Reply Comments due | November 17, 2004.
Issuance of EA | November 2004.
Ready for Commission Decision on the Application | February 2005.

Magalie R. Salas,
Secretary.

[FR Doc. E4-1772 Filed 8-10-04; 8:45 am]

BILLING CODE 6717-01-P